DEPARTMENT OF THE TREASURY

Bureau of the Fiscal Service

Proposed Collection of Information: Improving Customer Experience (OMB Circular A-11, Section 280 Implementation)

ACTION: Notice and request for comments.

SUMMARY: The Department of the Treasury, as part of its continuing effort to reduce paperwork and respondent burden, invites the general public and other Federal agencies to take this opportunity to comment on proposed and/or continuing information collections, as required by the Paperwork Reduction Act of 1995. Currently the Bureau of the Fiscal Service within the Department of the Treasury is soliciting comments concerning the new collection, Improving Customer Experience (OMB Circular A-11, Section 280 Implementation), proposed by the Agency.

DATES: Written comments should be received on or before May 17, 2021 to be assured of consideration.

ADDRESSES: Submit comments identified by Information Collection 1530-NEW, Improving Customer Experience (OMB Circular A-11, Section 280 Implementation), by any of the following methods:

• Federal eRulemaking Portal: https://www.regulations.gov. Follow the instructions for submitting comments. Comments submitted electronically, including attachments to https://www.regulations.gov, will be posted to the docket unchanged.

• Mail: Direct all written comments and requests for additional information to Bureau of the Fiscal Service, Bruce A. Sharp, Room #4006-A, P.O. Box 1328, Parkersburg, WV 26106-1328.

FOR FURTHER INFORMATION CONTACT: Submit requests for additional information, including requests for copies of the collection instrument and supporting documents to Amber Chaudhry, Customer Experience Strategist, amber.chaudhry@fiscal.treasury.gov; 202-657-9722, or Bruce A. Sharp, Bureau Clearance Officer, bruce.sharp@fiscal.treasury.gov; 304-480-8112.

SUPPLEMENTARY INFORMATION:

Title: Improving Customer Experience (OMB Circular A-11, Section 280 Implementation).

OMB Number: 1530-NEW.

Type of Review: New.

Description: A modern, streamlined and responsive customer experience means: Raising government-wide customer experience to the average of the private sector service industry; developing indicators for high-impact Federal programs to monitor progress towards excellent customer experience and mature digital services; and providing the structure (including increasing transparency) and resources to ensure customer experience is a focal point for Bureau of the Fiscal Service leadership. To support this, OMB Circular A-11 Section 280 established government-wide standards for mature customer experience organizations in government and measurement. To enable Federal programs to deliver the experience taxpayers deserve, they must undertake three general categories of activities: Conduct ongoing customer research, gather and share customer feedback, and test services and digital products.

These data collection efforts may be either qualitative or quantitative in nature or may consist of mixed methods. Additionally, data may be collected via a variety of means, including but not limited to electronic or social media, direct or indirect observation (i.e., in person, video and audio collections), interviews, questionnaires, surveys, and focus groups. Bureau of the Fiscal Service will limit its inquiries to data collections that solicit strictly voluntary opinions or responses. Steps will be taken to ensure anonymity of respondents in each activity covered by this request.

The results of the data collected will be used to improve the delivery of Federal services and programs. It will include the creation of personas, customer journey maps, and reports and summaries of customer feedback data and user insights. It will also provide government-wide data on customer experience that can be displayed on performance.gov to help build transparency and accountability of Federal programs to the customers they serve.

As a general matter, these information collections will not result in any new system of records containing privacy information and will not ask questions of a sensitive nature, such as sexual behavior and attitudes, religious beliefs, and other matters that are commonly considered private.

The Bureau will collect this information by electronic means when possible, as well as by mail, fax, telephone, technical discussions, and in-person interviews. The Bureau may also utilize observational techniques to collect this information.

Affected Public: Collections will be targeted to the solicitation of opinions from respondents who have experience with the program or may have experience with the program in the near future. For the purposes of this request, “customers” are individuals, businesses, and organizations that interact with a Bureau of the Fiscal Service or program, either directly or via a Federal contractor. This could include individuals or households; businesses or other for-profit organizations; not-for profit institutions; State, local or tribal governments; Federal government; and Universities.

Estimated Number of Respondents: 2,001,550.

Estimated Time per Respondent: Varied, dependent upon the data collection method used. The possible response time to complete a questionnaire or survey may be 3 minutes or up to 1.5 hours to participate in an interview.

Estimated Total Annual Burden Hours: 101,125.

Estimated Total Annual Cost to Public: $0.

Request for Comments: Comments submitted in response to this notice will be summarized and/or included in the request for Office of Management and Budget approval. All comments will become a matter of public record. Comments are invited on: 1. Whether the collection of information is necessary for the proper performance of the functions of the agency, including whether the information shall have practical utility; 2. the accuracy of the agency's estimate of the burden of the collection of information; 3. ways to enhance the quality, utility, and clarity of the information to be collected; 4. ways to minimize the burden of the collection of information on respondents, including through the use of automated collection techniques or other forms of information technology; and 5. estimates of capital or start-up costs and costs of operation, maintenance, and purchase of services to provide information.

Authority: 44 U.S.C. 3501 et seq.

Dated: March 12, 2021.
Bruce A. Sharp,
Bureau Clearance Officer.

[FR Doc. 2021-05542 Filed 3-17-21; 8:45 am]

BILLING CODE 4810-AS-P